FEDERAL COMMUNICATIONS COMMISSION

[AU Docket No. 12-25; DA 12-236]

Mobility Fund Phase I Auction Limited Extension of Deadlines for Comments and Reply Comments on Census Block Eligibility Challenges

AGENCY: Federal Communications Commission.

ACTION: Notice.

SUMMARY: In this document, the Commission's Wireless Telecommunications and Wireline Competition Bureaus extend the deadline for filing comments and reply comments on census block eligibility challenges in AU Docket No. 12-25. The comment and reply comment deadlines for all other issues in this proceeding remain unchanged.

DATES: Comments due on Census Block Eligibility Challenges (deadline extended): March 16, 2012. Reply Comments due on Census Block Eligibility Challenges (deadline extended): March 26, 2012. Comments due on all other issues (not changed): February 24, 2012 and Reply Comments due on all other issues (not changed): March 9, 2012.

ADDRESSES: All filings in response to the notice must refer to AU Docket No. 12-25. The Wireless Telecommunications and Wireline Competition Bureaus strongly encourage interested parties to file comments electronically, and request that an additional copy of all comments and reply comments be submitted electronically to the following address: auction901@fcc.gov. Comments may be submitted by any of the following methods:

Electronic Filers: Federal Communications Commission's Web Site: http://fjallfoss.fcc.gov/ecfs2/. Follow the instructions for submitting comments.

Paper Filers: Parties who choose to file by paper must file an original and one copy of each filing. Filings can be sent by hand or messenger delivery, by commercial overnight courier, or by first-class or overnight U.S. Postal Service mail. All filings must be addressed to the Commission's Secretary, Attn: WTB/ASAD, Office of the Secretary, Federal Communications Commission.

All hand-delivered or messenger-delivered paper filings for the Commission's Secretary must be delivered to FCC Headquarters at 445 12th St. SW., Room TW-A325, Washington, DC 20554. The filing hours are 8 a.m. to 7 p.m. Eastern Time. All hand deliveries must be held together with rubber bands or fasteners. Any envelopes and boxes must be disposed of before entering the building.

Commercial overnight mail (other than U.S. Postal Service Express Mail and Priority Mail) must be sent to 9300 East Hampton Drive Capitol Heights, MD 20743.

U.S. Postal Service first-class, Express, and Priority mail must be addressed to 445 12th Street SW., Washington, DC 20554.

People with Disabilities: Contact the FCC to request reasonable accommodations (accessible format documents, sign language interpreters, CART, etc.) by email: FCC504@fcc.gov or phone: 202-418-0530 or TTY: 202-418-0432.

FOR FURTHER INFORMATION CONTACT: Wireless Telecommunications Bureau, Auctions and Spectrum Access Division: Lisa Stover at (717) 338-2868 or Sayuri Rajapakse at (202) 418-0660.

SUPPLEMENTARY INFORMATION: This is a summary of the Mobility Fund Phase I Auction Limited Extension of Comment Deadlines Public Notice (Public Notice) released on February 16, 2012. The Public Notice and related Commission documents may be purchased from the Commission's duplicating contractor, Best Copy and Printing, Inc. (BCPI), 445 12th Street SW., Room CY-B402, Washington, DC 20554, telephone 800-378-3160, or you may contact BCPI at its Web site: http://www.BCPIWEB.com. When ordering documents from BCPI, please provide the appropriate FCC document number, for example, DA 12-236 for this Public Notice. The Public Notice and related documents also are available on the Internet at the Commission's Web site: http://wireless.fcc.gov/auctions/901/ or by using the search function for AU Docket No. 12-25 on the Commission's Electronic Comment Filing System (ECFS) Web page at http://www.fcc.gov/cgb/ecfs/.

1. The Wireless Telecommunications and Wireline Competition Bureaus (the Bureaus) extend the deadline for filing comments and reply comments on census block eligibility challenges. Interested parties should file comments challenging the Bureaus' determinations with respect to the potential eligibility of specific census blocks for Mobility Fund Phase I support by March 16, 2012. Reply comments on such challenges should be filed no later than March 26, 2012. With respect to all other issues in this proceeding, the comment and reply comment deadlines are unchanged and respectively remain February 24, 2012, and March 9, 2012.

2. On February 2, 2012, the Bureaus released the Auction 901 Comment Public Notice, 77 FR 7152, February 10, 2012, which seeks comment on auction procedures and certain related program requirements for Auction 901, a reverse auction to award $300 million in one-time Mobility Fund Phase I support, scheduled for September 27, 2012. Auction 901 will award Mobility Fund Phase I support to carriers that commit to provide 3G or better mobile voice and broadband services in census blocks where such services are unavailable.

3. As required by the Commission in the USF/ICC Transformation Order, 76 FR 73830, November 29, 2011 and 76 FR 81562, December 28, 2011, the Bureaus announced in the Auction 901 Comment Public Notice that they would use January 2012 American Roamer data to determine the availability of 3G or better service at the centroid of individual census blocks. Because the Bureaus had not concluded their analysis of the January 2012 American Roamer data, they provided a preliminary list of such blocks based on their analysis of earlier data. On February 10, 2012, the Bureaus released the updated list of census blocks potentially eligible for Mobility Fund Phase I support, based on January 2012 American Roamer data. The Auction 901 Comment Public Notice asked commenters to identify any census blocks that should be added or subtracted from the updated list of potentially eligible census blocks and provide supporting evidence for their assertions. The Auction 901 Comment Public Notice stated that the Bureaus would consider such challenges only in the form of comments to that Public Notice.

4. On February 13, 2012, the Commission received two motions requesting additional time for the review of the American Roamer data and the filing of census block eligibility challenges. The Bureaus found that a limited extension of time for the consideration of census block eligibility challenges will serve the public interest and will not prejudice any interested party given the issues involved in identifying potentially eligible census blocks and in light of the Bureaus recent release of an updated list of potentially eligible blocks based on January 2012 American Roamer data. The Bureaus therefore extended to March 16, 2012, the deadline for filing comments challenging the potential eligibility of particular census blocks for Mobility Fund Phase I Funding and the reply comment deadline to March 26, 2012.

Federal Communications Commission.
Gary D. Michaels,
Deputy Chief, Auctions and Spectrum Access Division, WTB.

[FR Doc. 2012-4361 Filed 2-23-12; 8:45 am]

BILLING CODE 6712-01-P